FEDERAL DEPOSIT INSURANCE CORPORATION

[OMB No. 3064-0028]

Agency Information Collection Activities: Submission for OMB Review; Comment Request

AGENCY: Federal Deposit Insurance Corporation (FDIC).

ACTION: Notice and request for comment.

SUMMARY: The FDIC, as part of its obligations under the Paperwork Reduction Act of 1995, invites the general public and other Federal agencies to take this opportunity to comment on the renewal of the existing information collection described below (3064-0028). On May 24, 2018, the FDIC requested comment for 60 days on a proposal to renew the information collection described below. No comments were received. The FDIC hereby gives notice of its plan to submit to OMB a request to approve the renewal of this collection, and again invites comment on this renewal.

DATES: Comments must be submitted on or before October 17, 2018.

ADDRESSES: Interested parties are invited to submit written comments to the FDIC by any of the following methods:

• Agency website: https://www.FDIC.gov/regulations/laws/federal.

• Email: comments@fdic.gov. Include the name and number of the collection in the subject line of the message.

• Mail: Jennifer Jones (202-898-6768), Counsel, MB-3105, Federal Deposit Insurance Corporation, 550 17th Street NW, Washington, DC 20429.

• Hand Delivery: Comments may be hand-delivered to the guard station at the rear of the 17th Street NW building (located on F Street) on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, Counsel, 202-898-6768, jennjones@fdic.gov, MB-3105, Federal Deposit Insurance Corporation, 550 17th Street NW, Washington, DC 20429.

SUPPLEMENTARY INFORMATION: On May 24, 2018, the FDIC requested comment for 60 days on a proposal to renew the information collection described below. No comments were received. The FDIC hereby gives notice of its plan to submit to OMB a request to approve the renewal of this collection, and again invites comment on this renewal.

Proposal to renew the following currently approved collection of information:

1. Title: Recordkeeping and Confirmation Requirements for Securities Transactions.

OMB Number: 3064-0028.

Form Number: None.

Affected Public: FDIC-Insured Institutions and Certain Employees of the FDIC-Insured Institutions.

Burden Estimate:

Summary of Annual Burden
| Type of burden | Obligation to respond | Estimated number of respondents | Estimated frequency of responses | Estimated time per response | Frequency of response | Total annual estimated burden
Recordkeeping and Confirmation Requirements for Securities Transactions—344.4 | Recordkeeping | Mandatory | 680 | 12 | 0.25 | Monthly | 2,040
Maintain Securities Trading Policies and Procedures—344.8 | Recordkeeping | Mandatory | 680 | 12 | 0.25 | Monthly | 2,040
Provide Customer with Copy of Broker/Dealer Confirmation and Remuneration Received OR Written Notification or Alternative Notification—344.5 and 344.6 | Third-Party Disclosure | Mandatory | 680 | 12 | 5 | Monthly | 40,800
Officer/Employee Filing of Reports of Personal Securities Trading Transactions—344.9 (assumes 5 officers/employees at each institution with income from securities broker activity) | Third-Party Disclosure | Mandatory | 3,400 | 4 | 1.50 | Quarterly | 20,400
Total Hourly Burden |  |  |  |  |  |  | 65,280

General Description of Collection:

The collection of information requirements are contained in 12 CFR part 344. The purpose of the regulation is to ensure that purchasers of securities in transactions affected by insured state nonmember banks are provided with adequate records concerning the transactions. The regulation is also designed to ensure that insured state nonmember banks maintain adequate records and controls with respect to the securities transactions they effect. Finally, this regulation requires officers and employees of FDIC-supervised institutions to report to the FDIC-supervised institution certain personal securities trading activity.

The FDIC has reviewed its previous submission related to the Paperwork Reduction Act of 1995 and has updated its methodology for calculating the burden in order to be consistent with the Federal Reserve Board and the Office of the Comptroller of the Currency. In addition, the FDIC has reviewed and revised its estimated number of respondents to ensure that only those institutions with income from securities brokerage activity are included its respondent count. The overall decrease in burden hours is the result of these changes.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on September 12, 2018.
Federal Deposit Insurance Corporation.
Robert E. Feldman,
Executive Secretary.

[FR Doc. 2018-20125 Filed 9-14-18; 8:45 am]

BILLING CODE 6714-01-P